DEPARTMENT OF THE INTERIOR

National Park Service

[NPS-WASO-NAGPRA-NPS0036433; PPWOCRADN0-PCU00RP14.R50000]

Notice of Inventory Completion: Vassar College, Poughkeepsie, NY

AGENCY: National Park Service, Interior.

ACTION: Notice.

SUMMARY: In accordance with the Native American Graves Protection and Repatriation Act (NAGPRA), Vassar College has completed an inventory of human remains and has determined that there is no cultural affiliation between the human remains and any Indian Tribe. The human remains were removed from unknown geographic locations.

DATES: Disposition of the human remains in this notice may occur on or after September 22, 2023.

ADDRESSES: Brian Daly, Vassar College, 124 Raymond Avenue, Poughkeepsie, NY 12604, telephone (845) 437-5310, email brdaly@vassar.edu.

SUPPLEMENTARY INFORMATION: This notice is published as part of the National Park Service's administrative responsibilities under NAGPRA. The determinations in this notice are the sole responsibility of Vassar College. The National Park Service is not responsible for the determinations in this notice. Additional information on the determinations in this notice, including the results of consultation, can be found in the inventory or related records held by Vassar College.

Description

Human remains representing, at minimum, five individuals were removed from unknown geographic locations. During the 1920s, the human remains (7; 8; 9; 14; 24) were acquired by Vassar College's Natural History and Social Museums. After the museums dissolved in the 1960s, the human remains were acquired by the Anthropology and Biology Departments. Human remains located in the Biology and Anthropology Department teaching collections were examined for visual and statistical markers of Native American affinities, with results reported on December 21, 2020. No associated funerary objects are present.

Pursuant to 43 CFR 10.16, the Secretary of the Interior may make a recommendation for a transfer of control of the culturally unidentifiable human remains. In June of 2023, Vassar College requested that the Review Committee consider a proposal to transfer control of the human remains in this notice to the Saginaw Chippewa Indian Tribe of Michigan and the Stockbridge Munsee Community, Wisconsin. The Review Committee, acting pursuant to its responsibility under 25 U.S.C. 3006(c)(5), considered the request at its June 2023 meeting and recommended to the Secretary that the proposed transfer of control proceed. A July 2023 letter on behalf of the Secretary of Interior from the Designated Federal Official transmitted the Secretary's independent review and concurrence with the Review Committee that:

• Vassar College consulted with every appropriate Indian Tribe or Native Hawaiian organization,

• None of the consulted and notified Indian Tribes and Native Hawaiian organizations objected to the proposed transfer of control, and

• Vassar College may proceed with the agreed upon transfer of control of the culturally unidentifiable human remains to the Saginaw Chippewa Indian Tribe of Michigan and the Stockbridge Munsee Community, Wisconsin.

Transfer of control is contingent on the publication of a Notice of Inventory Completion in the Federal Register. This notice fulfills that requirement.

Determinations

Officials of Vassar College have determined that:

• Pursuant to 25 U.S.C. 3001(9), the human remains described in this notice are Native American based on biological evidence.

• Pursuant to 25 U.S.C. 3001(9), the human remains described in this notice represent the physical remains of five individuals of Native American ancestry.

• Pursuant to 25 U.S.C. 3001(2), a relationship of shared group identity cannot be reasonably traced between the Native American human remains and any present-day Indian Tribe.

• Pursuant to 43 CFR 10.10(g)(2) and 10.16, the disposition of the human remains and associated funerary objects may be to the Saginaw Chippewa Indian Tribe of Michigan and the Stockbridge Munsee Community, Wisconsin.

Request for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after September 22, 2023. If competing requests for disposition are received, Vassar College must determine the most appropriate requestor prior to disposition. Requests for joint disposition of the human remains are considered a single request and not competing requests. Vassar College is responsible for sending a copy of this notice to the Indian Tribes identified in this notice.

Authority: Native American Graves Protection and Repatriation Act, 25 U.S.C. 3003, and the implementing regulations, 43 CFR 10.9 and 10.11.

Dated: August 16, 2023.
Melanie O'Brien,
Manager, National NAGPRA Program.

[FR Doc. 2023-18133 Filed 8-22-23; 8:45 am]

BILLING CODE 4312-52-P